DEPARTMENT OF ENERGY

Federal Energy Regulatory Commission

[Docket No. CP02-57-000]

SCG Pipeline, Inc.; Notice of Route and Site Review

February 20, 2002.

On March 14 and 15, 2002, the staff of the Office of Energy Projects (OEP) will conduct a site review of the proposed SCG Pipeline Project. The SCG Pipeline Project facilities are proposed for construction by SCG Pipeline, Inc (SCG). The proposed pipeline route and route alternatives, crossing portions of Chatham and Effingham Counties, Georgia and Jasper County, South Carolina, will be inspected by automobile.

Anyone interested in attending the route and site review or obtaining further information may contact the Commission's Office of External Affairs at (202) 208-1088. Attendees must provide their own transportation.

Magalie R. Salas,
Secretary.

[FR Doc. 02-4566 Filed 2-26-02; 8:45 am]

BILLING CODE 6717-01-P